DEPARTMENT OF TRANSPORTATION

Federal Railroad Administration

Programmatic Environmental Impact Statement: High Speed Rail Corridor Las Vegas, NV to Anaheim, CA

AGENCY: Federal Railroad Administration (FRA), Department of Transportation (DOT).

ACTION: Notice of intent.

SUMMARY: The FRA is issuing this notice to advise the public that FRA will prepare a programmatic environmental impact statement (PEIS) for the California-Nevada Interstate Maglev Project in cooperation with the Nevada Department of Transportation. FRA is also issuing this notice to solicit public and agency input into the development of the scope of the PEIS and to advise the public that outreach activities conducted by the program participants will be considered in the preparation of the PEIS.

The FRA will establish the purpose and need, examine the regional implications, present site-specific aspects of the project that can proceed to construction, and determine the feasible study areas to be carried forward for second tier assessments of site-specific environmental impacts.

FOR FURTHER INFORMATION CONTACT: For further information regarding the programmatic environmental review, please contact:

Mr. Christopher Bonanti, Environmental Program Manager, Office of Railroad Development, Federal Railroad Administration, 1120 Vermont Avenue (Mail Stop 20), Washington, DC 20590; Telephone (202) 493-6383; e-mail: christopher.bonanti@fra.dot.gov.

Mr. Jeffrey Fontaine, P.E., Director, Telephone (775) 888-7440, e-mail: jfontaine@dot.state.nv.us; or Mr. James Mallery, Planning Manager, Telephone (775) 888-7464, e-mail: jmallery@dot.state.nv.us; Nevada Department of Transportation, 1263 South Stewart Street, Carson City, NV 89712.

SUPPLEMENTARY INFORMATION:

Background

For over twenty years, the California Nevada Super Speed Train Commission (CNSSTC), a public agency chartered within the State of Nevada, has sponsored studies to examine the feasibility and the environmental impacts of linking the Las Vegas area with various points in the Los Angeles region using a high-speed ground transportation system. Most of these studies have focused on the use of magnetic levitation technology. More recently, the CNSSTC sponsored the first leg of such a project, linking a point on the outskirts of Las Vegas with the city of Primm, on the California-Nevada border, as one of the entries competing in the FRA's Maglev Deployment Program authorized in Section 1218 (23 U.S.C. 322) of the Transportation Equity Act for the 21st Century (TEA21).

The FRA prepared a programmatic EIS (PEIS) to address the potential for significant environmental impact from the Maglev Deployment Program that included the Las Vegas-Primm project as one of seven projects analyzed in the PEIS. The notice of availability of the final PEIS was published in the Federal Register on May 4, 2001. CNSSTC had prepared an environmental assessment for the Las Vegas-Primm project in February 2000, which was used by the FRA to assist the agency in preparing the PEIS. The PEIS for the Maglev Deployment Program is available on the FRA Web site at: http://www.dot.fra.gov/s/env/maglev/MagPEIS.htm and the environmental assessment is available from Mr. Bruce Aguilera, Chairman, California-Nevada Super Speed Train Commission, 400 Las Vegas Blvd. South, Las Vegas, Nevada 89101, Telephone (702) 229-4949.

Other recent documents related to the Las Vegas-Anaheim project include the preparation by the CNSSTC of Project Descriptions describing the 169-mile Las Vegas-Barstow component as a stand-alone project, which were submitted to the FRA in June 2002; and the Ontario-Anaheim segment, which was submitted to the FRA in June 2003.

The Department of Transportation and Related Agencies Appropriations Act, 2003 (Pub. L. 108-7), which provides appropriations for the FRA and other agencies, included funds specifically to conduct additional design, engineering and environmental studies concerning the California-Nevada Interstate Maglev Project under the FRA's Next Generation High Speed Rail Technology Demonstration Program. Some of these funds will be used to conduct the system-wide Programmatic EIS.

The FRA has entered into a Memorandum of Understanding with the CNSSTC, the Nevada Department of Transportation (NDOT) and the California Department of Transportation (Caltrans) governing the conduct of this Programmatic EIS. FRA is serving as the lead federal agency, NDOT is the lead state agency, and the California Department of Transportation (Caltrans) and CNSSTC are cooperating agencies. Through this PEIS, the FRA, NDOT and the cooperating agencies will examine alternative routes, viable transportation alternatives, and system-wide environmental issues, and identify site-specific problem areas deserving of more detailed analysis. In particular, in light of environmental assessment work previously completed and the likely construction sequencing should a decision be made to proceed with the project following completion of the programmatic environmental review, the PEIS will address the Las Vegas to Primm segment in greater detail that might allow this particular segment to proceed into final design and construction once the PEIS is complete.

Environmental Issues

Possible environmental impacts include displacement of commercial and residential properties, disproportionate impacts to minority and low-income populations, community and neighborhood disruption, increased noise and electromagnetic interference along rail corridors including startle effects on highway vehicles, traffic impacts associated with stations, effects to historic properties or archaeological sites, impacts to parks and recreational resources, visual quality effects, impacts to water resources, wetlands, and sensitive biological species and habitat, land use compatibility impacts, energy use, and impacts to agricultural lands.

Alternatives

The PEIS will consider alternatives including: (1) Taking no action, (2) various alignment options and station locations for the entire length of the project and (3) other viable transportation alternatives. The degree of detail in the analysis may vary at different locations. In particular, at the Nevada end, it may be sufficiently detailed to support a site-specific EIS, while in the much longer California segment, it may be of a broader programmatic scale, sufficient to support a decision to go ahead with the entire project, but requiring further analysis to resolve specific detailed routing and design issues.

Scoping and Comment

FRA encourages broad participation in the PEIS process and review of the resulting environmental documents. Comments and suggestions related to the project and potential environmental concerns are invited from all interested agencies and the public at large to ensure that the full range of issues related to the proposed action and all reasonable alternatives are addressed and all significant issues are identified. The public is invited to participate in the scoping process, to review the Draft PEIS when published, and to provide input at public meetings. Letters describing the proposed scope of the PEIS and soliciting comments will be sent to appropriate Federal, State and local agencies, elected officials, community organizations, and to private organizations and citizens who have previously expressed interest in this proposal. Several public meetings to be advertised in the local media will be held in the project area regarding this proposal. Release of the Draft PEIS for public comment and public meetings and hearings related to that document will be announced as those dates are established.

Persons interested in providing comments on the scope of the programmatic EIS should do so within thirty days of the publication of this Notice of Intent. Comments can be sent in writing to FRA or NDOT representatives at the addresses listed above.

Public Scoping Meetings will be held at the following respective locations and dates:

Las Vegas, Nevada

Date: June 21, 2004.

Time: 4 p.m.-9 p.m.

Location: City of Las Vegas, City Council Chambers, 400 Stewart Ave., Las Vegas, NV 89101.

Ontario, California

Date: June 22, 2004.

Time: 4 p.m.-9 p.m.

Location: Ontario Convention Center, 2000 Convention Center Way, Ontario, CA 91764.

Victorville, California

Date: June 23, 2004.

Time: 4 p.m.-9 p.m.

Location: Victorville Activity Center, 15075 Hesperia Rd., Victorville, CA 92392.

Barstow, California

Date: June 24, 2004.

Time: 4 p.m.-9 p.m.

Location: Barstow College, Norman Smith Center, 2700 Barstow Rd., Barstow, CA 92311.

Anaheim, California

Date: June 28, 2004.

Time: 4 p.m.-9 p.m.

Location: City Hall West, 2nd Floor, Gordon Hoyt Conference Room, 201 S. Anaheim Blvd., Anaheim, CA 92805.

Issued in Washington, DC, on May 14, 2004.
Jo Strang,
Deputy Associate Administrator of Railroad Development.

[FR Doc. 04-11397 Filed 5-19-04; 8:45 am]

BILLING CODE 4910-06-P